SMALL BUSINESS ADMINISTRATION

[License No. 09/09-5279]

Notice of Surrender of License

Notice is hereby given that Asian American Capital Corporation, located at 1251 West Tennyson Road, Suite 4, Hayward, California 94544, has surrendered its license to operate as a small business investment company under the Small Business Investment Act of 1958, as amended (the Act). Asian American Capital Corporation was licensed by the Small Business Administration on February 23, 1981.

Under the authority vested by the Act and pursuant to the Regulations promulgated thereunder, the surrender was acted on this date, and accordingly, all rights, privileges and franchises derived therefrom have been terminated.

(Catalog of Federal Domestic Assistance Program No. 59.11, Small Business Investment Companies)
Dated: April 17, 2001.
Harry E. Haskins,
Acting Associate Administrator for Investment.

[FR Doc. 01-10097 Filed 4-23-01; 8:45 am]

BILLING CODE 8025-01-P